DEPARTMENT OF JUSTICE

Notice of Lodging Proposed Consent Decree

In accordance with Departmental Policy, 28 CFR 50.7, notice is hereby given that a proposed Consent Decree in United States v. Vail Associates, Inc., (D. Colo.), Civil Action No. 03-D-2069 (BNB), was lodged with the United States District Court for the District of Colorado on October 17, 2003.

This proposed Consent Decree concerns a complaint filed by the United States against Vail Associates, Inc., pursuant to section 309(b) and (d) of the Clean Water Act, 33 U.S.C. 1319(b) and (d), to obtain injunctive relief from the impose civil penalties against the Defendant for violating the Clean Water Act by discharging pollutants without a permit into waters of the United States. The proposed Consent Decree resolves these allegations by requiring the Defendant to restore the impacted areas, perform mitigation and to pay a civil penalty.

The Department of Justice will accept written comments relating to this proposed Consent Decree for thirty (30) days from the date of publication of this Notice. Please address comments to Jon Lipshultz, U.S. Department of Justice, Environmental Defense Section, Environment and Natural Resources Division, P.O. Box 23986, Washington, DC 20026-3986 and refer to United States v. Vail Associates, Inc., (D. Colo.), Civil Action No. 03-D-2069 (BNB), DJ #90-5-1-1-16527.

The proposed Consent Decree may be examined at the Clerk's Office, United States District Court for the District of Colorado, 901 19th Street, Denver, Colorado 80294-3589.

In addition, the proposed Consent Decree may be viewed at http://www.usdoj.gov/enrd/open.html.

Scott Schachter,
Assistant Chief, Environmental Defense Section, Environment & Natural Resources Division.

[FR Doc. 03-27255 Filed 10-28-03; 8:45 am]

BILLING CODE 4410-15-M